NATIONAL AERONAUTICS AND SPACE ADMINISTRATION

[Notice: (19-018)]

NASA Advisory Council; Regulatory and Policy Committee; Meeting

AGENCY: National Aeronautics and Space Administration.

ACTION: Notice of meeting.

SUMMARY: In accordance with the Federal Advisory Committee Act, as amended, the National Aeronautics and Space Administration (NASA) announces a meeting of the Regulatory and Policy Committee of the NASA Advisory Council. This Committee reports to the NAC.

DATES: Wednesday, May 1, 2019, from 11:00 a.m.-4:30 p.m., Eastern Time.

ADDRESSES: NASA Headquarters, James Webb Memorial Auditorium, First Floor, 300 E Street SW, Washington, DC 20546.

FOR FURTHER INFORMATION CONTACT: Mr. Andrew Rowe, Designated Federal Officer, Office of Legislative and Intergovernmental Affairs, NASA Headquarters, Washington, DC 20546, (202) 358-4269 or andrew.rowe@nasa.gov.

SUPPLEMENTARY INFORMATION: This meeting will be open to the public up to the capacity of the meeting room. This meeting is also available telephonically and by WebEx. You must use a touch-tone phone to participate in this meeting. Any interested person may dial the toll number 1-720-259-6462 and then the numeric passcode 713620, followed by the # sign, or toll-free 1-844-467-6272 and then the numeric passcode 713620, followed by the # sign. Note: If dialing in, please “mute” your phone. To join via WebEx, the link is https://nasaenterprise.webex.com/. The meeting number is 903 548 068 and the meeting password is wWgfNC5@(case sensitive).

The agenda for the meeting will include:

—Intellectual Property Reform

—International Space Station Commercialization

—Enabling Suborbital Human-Tended Payloads

Patricia Rausch,
Advisory Committee Management Officer, National Aeronautics and Space Administration.

[FR Doc. 2019-07461 Filed 4-15-19; 8:45 am]

BILLING CODE 7510-13-P